DEPARTMENT OF COMMERCE

International Trade Administration

[A-533-820]

Certain Hot-Rolled Carbon Steel Flat Products From India: Extension of Time Limit for Final Results of Antidumping Duty Administrative Review

AGENCY: Import Administration, International Trade Administration, Department of Commerce.

ACTION: Notice of extension of time limit for the final results of antidumping duty administrative review.

SUMMARY: The Department of Commerce (the Department) is extending the time limit for the final results of the administrative review of the antidumping duty order on certain hot-rolled carbon steel flat products from India until June 20, 2004. This review covers one respondent, Essar Steel Limited. The period of review is May 3, 2001 through November 30, 2002.

DATES: Effective Date: April 27, 2004.

FOR FURTHER INFORMATION CONTACT: Kevin Williams or Howard Smith, AD/CVD Enforcement, Office IV, Group II, Import Administration, International Trade Administration, U.S. Department of Commerce, 14th and Constitution Avenue, NW., Washington, DC 20230; telephone: (202) 482-2371 or (202) 482-5193, respectively.

SUPPLEMENTARY INFORMATION:

Background

On January 15, 2003, the Department initiated an administrative review of certain hot-rolled carbon steel flat products (HRS) from India, covering the period May 3, 2001 through November 30, 2002. See Initiation of Antidumping and Countervailing Duty Administrative Reviews and Request for Revocation in Part, 68 FR 3009 (January 22, 2003). On December 23, 2003, the Department published in the Federal Register the preliminary results of the administrative review. See Certain Hot-Rolled Carbon Steel Flat Products from India: Preliminary Results and Rescission in Part of Antidumping Duty Administrative Review, 68 FR 74209 (December 23, 2003). The final results of review are currently due no later than April 21, 2004.

Statutory Time Limits

Section 751(a)(3)(A) of the Tariff Act of 1930, as amended (the Act), requires the Department to make a preliminary determination in an administrative review within 245 days after the last day of the anniversary month of an order or finding for which a review is requested and a final determination within 120 days after the date on which the preliminary determination is published. However, if it is not practicable to complete the review within these time periods, section 751(a)(3)(A) of the Act allows the Department to extend the 245-day time limit for the preliminary determination to a maximum of 365 days and the time limit for the final determination to 180 days (or 300 days if the Department does not extend the time limit for the preliminary determination) from the date of publication of the preliminary determination.

Extension of Time Limit for Final Results of Review

We determine that it is not practicable to complete the final results of this review within the original time limit. See the memorandum from Thomas F. Futtner, Acting Office Director Group II, Office 4, to Holly A. Kuga, Acting Deputy Assistant Secretary for Import Administration, Group II, dated concurrently with this notice, which is on file in the Central Records Unit, Room B-099 of the Department's main building. The Department is therefore extending the time limit for completion of the final results of review by 60 days. We intend to issue the final results of review no later than June 20, 2004.

This extension is in accordance with section 751(a)(3)(A) of the Act.

Dated: April 20, 2004.
Holly A. Kuga,
Acting Deputy Assistant Secretary for Import Administration, Group II.

[FR Doc. 04-9479 Filed 4-26-04; 8:45 am]

BILLING CODE 3510-DS-P